FEDERAL COMMUNICATIONS COMMISSION

Sunshine Act Meeting; Open Commission Meeting Friday, March 17, 2006

March 10, 2006.

The Federal Communications Commission will hold an open meeting on the subjects listed below on Friday, March 17, 2006, which is scheduled to commence at 9:30 a.m. in Room TW-C305, at 445 12th Street, SW., Washington, DC.

Item No. | Bureau | Subject
1 | Media | Title: Children's Television Obligations of Digital Television Broadcasters (MM Docket No. 00-167).
|  | Summary: The Commission will consider a Second Further Notice of Proposed Rulemaking concerning the Joint Proposal of Industry and Advocates on Reconsideration of Children's Television Rules.
2 | Wireless Telecommunications | Title: The Development of Operational, Technical and Spectrum Requirements for Meeting Federal, State and Local Public Safety Communications Requirements Through the Year 2010 (WT Docket No. 96-86).
|  | Summary: The Commission will consider an Eighth Notice of Proposed Rulemaking seeking comment on public safety communications needs in the 700 MHz band (746-776 MHz and 794-806 MHz).
3 | Office of Managing Director | Title: Establishment of the Public Safety and Homeland Security Bureau.
|  | Summary: The Commission will consider an Order creating a Public Safety and Homeland Security Bureau and amending the rules to reflect the function of this Bureau.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (TTY).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-2826 Filed 3-20-06; 1:50 pm]

BILLING CODE 6712-01-P